ENVIRONMENTAL PROTECTION AGENCY

[ER-FRL-9010-2]

Environmental Impacts Statements; Notice of Availability

Responsible Agency: Office of Federal Activities, General Information (202) 564-7146 or http://www.epa.gov/compliance/nepa/.

Weekly receipt of Environmental Impact Statements

Filed 07/08/2013 Through 07/12/2013

Pursuant to 40 CFR 1506.9.

Notice

Section 309(a) of the Clean Air Act requires that EPA make public its comments on EISs issued by other Federal agencies. EPA's comment letters on EISs are available at: http://www.epa.gov/compliance/nepa/eisdata.html.

EIS No. 20130208, Draft EIS, USFS, CO, Gore Creek Restoration, Comment Period Ends: 09/03/2013, Contact: Jack Lewis 970-638-4176.

EIS No. 20130209, Draft EIS, BLM, AZ, Sonoran Valley Parkway Project, Comment Period Ends: 09/03/2013, Contact: Kathleen Depukat 623-580-5681.

EIS No. 20130210, Draft EIS, DOE, CA, Hydrogen Energy California Integrated Gasification Combined Cycle Project, Comment Period Ends: 09/03/2013, Contact: Fred Pozzuto 304-285-5219.

EIS No. 20130211, Final EIS, USN, MD, Medical Facilities Development and University Expansion at Naval Support Activity Bethesda, Review Period Ends: 08/19/2013, Contact: Joseph Macri 301-295-1803.

EIS No. 20130212, Final EIS, BLM, AZ, APS Sun Valley to Morgan 500/230kV Transmission Line Project, Proposed Resource Management Plan Amendment, Review Period Ends: 08/19/2013, Contact: Joe Incardine 801-560-7135.

Amended Notices

EIS No. 20130122, Final EIS, MARAD, AL, ADOPTION—Garrows Bend Intermodal Rail, Portion of the Choctaw Point Terminal Project, Review Period Ends: 08/19/2013, Contact: Kris Gilson 202-492-0479. The U.S. Department of Transportation's Maritime Administration has adopted the U.S. Army Corps of Engineers FEIS #20040381, filed 08/10/2004. The Maritime Administration was not a cooperating agency, therefore recirculation is necessary under Section 1506.3(b) of the CEQ Regulation.

Revision to FR Notice Published 05/03/2013: CEQ Wait Period Ending 06/03/2013 has been reestablished to 08/19/2013.

EIS No. 20130161, Draft EIS, USFS, MT, East Reservoir Project, Comment Period Ends: 08/15/2013, Contact: Denise Beck 406-293-7773 Ext.7504

Revision to FR Notice Published 07/26/2013; Extending Comment Period from 07/29/2013 to 08/15/2013.

EIS No. 20130200, Final EIS, FTA, CA, Van Ness Bus Rapid Transit Project, Review Period Ends: 08/12/2013, Contact: Alex Smith 415-744-3133.

Revision to FR Notice Published 07/12/2013; Correction to Agency Contact Name should be Alex Smith.

Dated: July 16, 2013.
Cliff Rader,
Director, NEPA Compliance Division, Office of Federal Activities.

[FR Doc. 2013-17424 Filed 7-18-13; 8:45 am]

BILLING CODE 6560-50-P